DEPARTMENT OF TRANSPORTATION

Federal Aviation Administration

14 CFR Part 39

[Docket No. FAA-2018-0583; Product Identifier 2018-NM-019-AD]

RIN 2120-AA64

Airworthiness Directives; Airbus Airplanes

AGENCY: Federal Aviation Administration (FAA), DOT.

ACTION: Notice of proposed rulemaking (NPRM).

SUMMARY: We propose to supersede Airworthiness Directive (AD) 2017-16-07, which applies to certain Airbus Model A330-200, A330-200 Freighter, A330-300, A340-500, and A340-600 series airplanes; and Model A340-313 airplanes. AD 2017-16-07 requires inspection of the fuselage bulk cargo door frames at specific locations, and corrective action if necessary. Since we issued AD 2017-16-07, it was determined that only airplanes having certain manufacturer serial numbers (MSNs) are affected by tartaric sulfuric anodizing (TSA)/chromic acid anodizing (CAA) surface treatment in the door fitting attachment holes, and that airplanes having certain MSNs were excluded. This proposed AD is intended to complete certain mandated programs intended to support the airplane reaching its limit of validity (LOV) of the engineering data that support the established structural maintenance program. This proposed AD would require new inspections of certain attachment holes for residual surface treatment and cracking, and corrective action if necessary; and would provide an optional terminating action for the inspections. The proposed AD would also revise the applicability to add certain airplanes and remove others. We are proposing this AD to address the unsafe condition on these products.

DATES: We must receive comments on this proposed AD by August 20, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAL, 2 Rond-Point Emile Dewoitine, 31700 Blagnac Cedex, France; telephone +33 5 61 93 36 96; fax +33 5 61 93 45 80; email airworthiness.A330-A340@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0583; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Section, Transport Standards Branch, FAA, 2200 South 216th St., Des Moines, WA 98198; telephone and fax 206-231-3229.

SUPPLEMENTARY INFORMATION:

Comments Invited

We invite you to send any written relevant data, views, or arguments about this proposed AD. Send your comments to an address listed under the ADDRESSES section. Include “Docket No. FAA-2018-0583; Product Identifier 2018-NM-019-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

As described in FAA Advisory Circular 120-104 (http://www.faa.gov/documentLibrary/media/Advisory_Circular/120-104.pdf), several programs have been developed to support initiatives that will ensure the continued airworthiness of aging airplane structure. The last element of those initiatives is the requirement to establish a limit of validity (LOV) of the engineering data that support the structural maintenance program under 14 CFR 26.21. This proposed AD is the result of an assessment of the previously established programs by the design approval holder (DAH) during the process of establishing the LOV for the affected airplanes. The actions specified in this proposed AD are necessary to complete certain programs to ensure the continued airworthiness of aging airplane structure and to support an airplane reaching its LOV.

We issued AD 2017-16-07, Amendment 39-18984 (82 FR 41874, September 5, 2017) (“AD 2017-16-07”), for all Airbus Model A330-200, A330-200 Freighter, A330-300, A340-500, and A340-600 series airplanes; and Model A340-313 airplanes. AD 2017-16-07 requires inspection of the fuselage bulk cargo door frames at specific locations, and corrective action if necessary. AD 2017-16-07 resulted from the discovery of TSA/CAA surface treatment in certain bulk cargo door frame holes of airplanes with MSNs 0400 and higher. We issued AD 2017-16-07 to detect and correct fatigue cracks in the bulk cargo door frames, caused by TSA/CAA surface treatment in certain bulk cargo door frame holes. Cracks in the bulk cargo door frames can cause the in-flight loss of a bulk cargo door, damage to the airplane, and subsequent reduced control of the airplane.

Actions Since AD 2017-16-07 Was Issued

Since we issued AD 2017-16-07, it was determined that only airplanes having manufacturer serial numbers (MSNs) 0400 through 1779 are affected by TSA/CAA surface treatment in the door fitting attachment holes due to fatigue. However, it was also determined that airplanes having MSN 0001 to MSN 0399 are affected in the same attachment holes due to a fatigue issue, therefore, the same inspections must also be accomplished on these airplanes. In addition, based on inspection results and calculations, Airbus also redefined the inspection thresholds and intervals. Airbus determined that these actions should not be required for Model A340-500 and -600 airplanes because the unsafe condition would only develop beyond the design service goal of these airplanes. Additionally, Airbus developed an optional terminating modification.

The European Aviation Safety Agency (EASA), which is the Technical Agent for the Member States of the European Union, has issued EASA AD 2018-0005, dated January 10, 2018 (referred to after this as the Mandatory Continuing Airworthiness Information, or “the MCAI”), to correct an unsafe condition for certain Airbus Model A330-200, A330-200 Freighter, and A330-300 series airplanes, and Model A340-200 and A340-300 series airplanes. The MCAI states:

In the frame of the certification of the A330 Extended Service Goal exercise, it was identified that Tartaric Sulfuric Anodising (TSA) or Chromic Acid Anodising (CAA) surface treatment is present in some frame holes, from aeroplane MSN [manufacturer serial number] 0400 and later MSN, following production process modification. On bulk cargo door frames (FR) 67 and FR 69 right hand (RH) side, the door fitting attachment holes have this TSA or CAA treatment, which leads to a detrimental effect on fatigue behaviour.

This condition, if not detected and corrected, could lead to cracks in the primary structure, possibly resulting in in-flight loss of a bulk cargo door, consequent decompression and potential damage to, and reduced control of, the aeroplane.

To initially address this potential unsafe condition, Airbus issued Alert Operators Transmission (AOT) A53L012-16 to provide instructions to inspect the fuselage bulk cargo door frames at specific locations. Consequently, EASA issued AD 2016-0102 [which corresponds to FAA AD 2017-16-07], requiring repetitive non-destructive test (rototest and high-frequency eddy-current (HFEC)) inspection or visual detailed (DET) inspections [to detect cracking] of the affected areas, and, depending on findings, accomplishment of a repair.

Since that [EASA] AD was issued, it was determined that only aeroplanes from MSN 0400 to MSN 1779 are affected by CAA or TSA surface treatment issue in the door fitting attachment holes. However, it was also determined that aeroplanes MSN 0001 to MSN 0399 are affected in the same attachment holes due to a fatigue issue, therefore, the same inspections must also be accomplished on these aeroplanes. In addition, based on inspection results and calculation, Airbus redefined inspection thresholds and intervals, depending on aeroplane type, model and utilisation. Airbus published SB A330-53-3278 and SB A340-53-4239 providing the inspection instructions at the specific locations with extended inspection thresholds and intervals. Airbus also determined that the actions should not be required for A340-500 and -600 models, as for these aeroplanes, the unsafe condition would only develop beyond the Design Service Goal of these aeroplanes. Finally, Airbus developed modification (mod) 206409 and published associated SB A330-53-3275 and SB A340-53-4238, as applicable, as optional terminating action.

For the reasons described above, this [EASA] AD retains the requirements of EASA AD 2016-0102, which is superseded, expands the Applicability and requires redefined repetitive inspections of the holes at the upper and lower door support fittings of FR 67 and FR 69 RH and the holes at door latch fitting of FR 69 RH. This [EASA] AD also introduces an optional modification, which constitutes terminating action for the repetitive inspections as required by this [EASA] AD.

The optional modification involves related investigative actions of eddy current rotating probe testing for cracks of the support fittings and the frame holes at frame (FR) 67 and FR 69. You may examine the MCAI in the AD docket on the internet at http://www.regulations.gov by searching for and locating Docket No. FAA-2018-0583.

Related Service Information Under 1 CFR Part 51

Airbus has issued the following service information.

• Service Bulletin A330-53-3275, dated August 22, 2017.

• Service Bulletin A330-53-3278, dated August 22, 2017.

• Service Bulletin A340-53-4238, dated September 8, 2017.

• Service Bulletin A340-53-4239, dated September 5, 2017.

Airbus Service Bulletins A330-53-3278 and A340-53-4239 describe procedures for rototest, HFEC/ultrasonic and detailed inspections for residual surface treatment and cracking of the upper and lower right-hand fuselage bulk cargo door support fitting attachment holes at FR 67 and FR 69 and the right-hand fuselage bulk cargo door latch fitting attachment holes at FR 69. Airbus Service Bulletins A330-53-3275 and A340-53-4238 describe procedures for a modification, which includes eddy current rotating probe testing for cracks of the support fittings and the frame holes at FR 67 and FR 69, and removal of TSA or CAA in the final holes of the bulk door frames FR 67 and FR 69. These documents are distinct since they apply to different airplane models. This service information is reasonably available because the interested parties have access to it through their normal course of business or by the means identified in the ADDRESSES section.

FAA's Determination and Requirements of This Proposed AD

Although this proposed AD does not explicitly restate the actions that are part of the requirements of AD 2017-16-07, this proposed AD would retain those required actions. Those actions are referenced in the service information identified above.

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 102 airplanes of U.S. registry. We estimate the following costs to comply with this proposed AD:

Estimated Costs
Action | Labor cost | Parts cost | Cost per product | Cost on U.S. operators
Inspections and modification | Up to 40 work-hours × $85 per hour = $3,400 | $5,100 | Up to $8,500 | Up to $867,000.

We have received no definitive data that would enable us to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-16-07, Amendment 39-18984 (82 FR 41874, September 5, 2017), and adding the following new AD:

Airbus: Docket No. FAA-2018-0583; Product Identifier 2018-NM-019-AD.

(a) Comments Due Date

We must receive comments by August 20, 2018.

(b) Affected ADs

This AD replaces AD 2017-16-07, Amendment 39-18984 (82 FR 41874, September 5, 2017) (“AD 2017-16-07”).

(c) Applicability

This AD applies to the following Airbus airplanes, certificated in any category, manufacturer serial numbers (MSNs) 0001 to 1779 inclusive; except airplanes on which Airbus Service Bulletin A330-53-3275 or Airbus Service Bulletin A340-53-4238 has been embodied.

(1) Airbus Model A330-201, -202, -203, -223, and -243 airplanes.

(2) Airbus Model A330-223F and -243F airplanes.

(3) Airbus Model A330-301, -302, -303, -321, -322, -323, -341, -342, and -343 airplanes.

(4) Airbus Model A340-211, -212, and -213 airplanes.

(5) Airbus Model A340-311, -312, and -313 airplanes.

(d) Subject

Air Transport Association (ATA) of America Code 53, Fuselage.

(e) Reason

This AD is prompted by a determination that only airplanes having certain manufacturer serial numbers (MSNs) are affected by tartaric sulfuric anodizing (TSA)/chromic acid anodizing (CAA) surface treatment in the door fitting attachment holes, and that airplanes having certain MSNs were excluded from AD 2017-16-07. This AD is intended to complete certain mandated programs intended to support the airplane reaching its limit of validity (LOV) of the engineering data that support the established structural maintenance program. We are issuing this AD to detect and correct fatigue cracks in the bulk cargo door frames, caused by TSA/CAA surface treatment in certain bulk cargo door frame holes. Cracks in the bulk cargo door frames can cause the in-flight loss of a bulk cargo door, damage to the airplane, and subsequent reduced control of the airplane.

(f) Compliance

Comply with this AD within the compliance times specified, unless already done.

(g) Repetitive Inspections

Before exceeding the thresholds specified in table 1 to paragraph (g) of this AD, or within the applicable time specified in paragraph (g)(1) or (g)(2) of this AD, whichever is later: Do a rototest, high frequency eddy current (HFEC), ultrasonic, or detailed inspection, as applicable, for residual surface treatment and cracking of the upper and lower right-hand fuselage bulk cargo door support fitting attachment holes at FR 67 and FR 69 and the right-hand fuselage bulk cargo door latch fitting attachment holes at FR 69, in accordance with the Accomplishment Instructions of Airbus Service Bulletin A330-53-3278, dated August 22, 2017, or Airbus Service Bulletin A340-53-4239, dated September 5, 2017; as applicable. Thereafter, depending on the areas and inspection methods as defined in table 2 to paragraph (g) of this AD, repeat the inspection at intervals not exceeding those specified in table 3 to paragraph (g) of this AD.

(1) For airplanes having MSN 0001 through 0399 inclusive: Within 200 flight cycles after the effective date of this AD.

(2) For airplanes having MSN 0400 through 1779 inclusive: Within 800 flight cycles after the effective date of this AD.

BILLING CODE 4910-13-P

BILLING CODE 4910-13-C

(h) Corrective Action

If any discrepancy is found during any inspection required by paragraph (g) of this AD, before further flight, repair using a method approved by the Manager, International Section, Transport Standards Branch, FAA; or the European Aviation Safety Agency (EASA); or Airbus's EASA Design Organization Approval (DOA). If approved by the DOA, the approval must include the DOA-authorized signature.

(i) Non-Terminating Action for Repairs

Accomplishment of a repair on an airplane, as required by paragraph (h) of this AD, does not constitute terminating action for the inspections required by paragraph (g) of this AD for that airplane, unless otherwise specified in repair instructions approved by the Manager, International Section, Transport Standards Branch, FAA; or EASA; or Airbus's EASA DOA. If approved by the DOA, the approval must include the DOA-authorized signature.

(j) Optional Terminating Action

Accomplishment of the modification, including applicable related investigative and corrective actions and removal of TSA or CAA in the final holes of the bulk door frames FR 67 and FR 69, as applicable, specified in, and in accordance with Airbus Service Bulletin A330-53-3275, dated August 22, 2017, or Airbus Service Bulletin A340-53-4238, dated September 8, 2017, as applicable, constitutes terminating action for the inspections required by paragraph (g) of this AD for that airplane, unless otherwise specified in the repair instructions approved by the Manager, International Section, Transport Standards Branch, FAA; or EASA; or Airbus's EASA DOA. If approved by the DOA, the approval must include the DOA-authorized signature.

(k) Credit for Previous Actions

This paragraph provides credit for the actions required by paragraph (g) of this AD if those actions were performed before the effective date of this AD using Airbus All Operators Telex (AOT) A53L012-16, dated May 30, 2016, or Revision 1, dated March 9, 2017.

(l) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the EASA; or EASA DOA. If approved by the DOA, the approval must include the DOA-authorized signature.

(m) Related Information

(1) Refer to Mandatory Continuing Airworthiness Information (MCAI) EASA AD 2018-0005, dated January 10, 2018, for related information. This MCAI may be found in the AD docket on the internet at http://www.regulations.gov by searching for and locating Docket No. FAA-2018-0583.

(2) For more information about this AD, contact Vladimir Ulyanov, Aerospace Engineer, International Section, Transport Standards Branch, FAA, 2200 South 216th St., Des Moines, WA 98198; telephone and fax 206-231-3229.

(3) For service information identified in this AD, contact Airbus SAS, Airworthiness Office—EAL, 2 Rond-Point Emile Dewoitine, 31700 Blagnac Cedex, France; telephone +33 5 61 93 36 96; fax +33 5 61 93 45 80; email airworthiness.A330-A340@airbus.com; internet http://www.airbus.com. You may view this service information at the FAA, Transport Standards Branch, 2200 South 216th St., Des Moines, WA. For information on the availability of this material at the FAA, call 206-231-3195.

Issued in Des Moines, Washington, on June 22, 2018.
Michael Kaszycki,
Acting Director, System Oversight Division, Aircraft Certification Service.

[FR Doc. 2018-14407 Filed 7-5-18; 8:45 am]

BILLING CODE 4910-13-P